DEPARTMENT OF THE INTERIOR

Bureau of Land Management

[OR-936-1430-ET; HAG-06-0146; WAOR-11331]

Public Land Order No. 7669; Extension of Public Land Order No. 6631; Washington

AGENCY: Bureau of Land Management, Interior.

ACTION: Public land order.

SUMMARY: This order extends Public Land Order No. 6631 for an additional 20-year period. This extension is necessary to continue protection of the Bureau of Land Management's Split Rock Recreation Area.

DATES: Effective Date: November 28, 2006.

ADDRESSES: Bureau of Land Management, Oregon/Washington State Office, P.O. Box 2965, Portland, Oregon 97208.

FOR FURTHER INFORMATION CONTACT: William Schurger, Wenatchee Field Office, 509-665-2116, or Charles R. Roy, Bureau of Land Management Oregon/Washington State Office, 503-808-6189.

SUPPLEMENTARY INFORMATION: Copies of the original order containing the legal description of the land involved are available from the Bureau of Land Management Oregon/Washington State Office at the address above.

Order

By virtue of the authority vested in the Secretary of the Interior by Section 204 of the Federal Land Policy and Management Act of 1976, 43 U.S.C. 1714 (2000), it is ordered as follows:

1. Public Land Order No. 6631 (51 FR 43003, November 28, 1986), which withdrew 24.65 acres of public land from settlement, sale, location and entry under the general land laws, including the United States mining laws, to protect the Bureau of Land Management's Split Rock Recreation Area, is hereby extended for an additional 20-year period.

2. Public Land Order No. 6631 will expire on November 27, 2026, unless, as a result of a review conducted prior to the expiration date pursuant to section 204(f) of the Federal Land Policy and Management Act of 1976, 43 U.S.C. 1714(f) (2000), the Secretary determines that the withdrawal shall be extended.

Dated: August 30, 2006.
R. Thomas Weimer,
Assistant Secretary of the Interior.

[FR Doc. E6-15409 Filed 9-15-06; 8:45 am]

BILLING CODE 4310-33-P